NATIONAL AERONAUTICS AND SPACE ADMINISTRATION

14 CFR Part 1274

[Document Number NASA-20-092; Docket Number NASA-2020-0007]

RIN 2700-AE58

Cooperative Agreements With Commercial Firms

AGENCY: National Aeronautics and Space Administration (NASA).

ACTION: Direct final rule.

SUMMARY: This direct final rule removes information on NASA's Cooperative Agreements with Commercial Firms because this information is already available in another section of the Code of Federal Regulations and in NASA's Grant and Cooperative Agreements Manual (GCAM).

DATES: This direct final rule is effective on January 15, 2021 without further action, unless adverse comment is received by December 16, 2020. If adverse comment is received, NASA will publish a timely withdrawal of the rule in the Federal Register.

ADDRESSES: Comments must be identified with RINs 2700-AE58 and may be sent to NASA via the Federal E-Rulemaking Portal: http://www.regulations.gov. Follow the online instructions for submitting comments. Please note that NASA will post all comments on the internet without changes, including any personal information provided.

FOR FURTHER INFORMATION CONTACT: Antanese Crank, 202-358-4683, Antanese.n.crank@nasa.gov.

SUPPLEMENTARY INFORMATION:

Direct Final Rule and Significant Adverse Comments

NASA has determined this rulemaking meets the criteria for a direct final rule because it makes nonsubstantive changes to remove information on NASA's Cooperative Agreements with Commercial Firms codified in 14 CFR part 1274 because this information is already available in 2 CFR part 1800 and in NASA's GCAM. NASA's GCAM is accessible at https://prod.nais.nasa.gov/pub/pub_library/srba/documents/Grant_and_CooperativeAgreementManual.pdf. No opposition to the changes and no significant adverse comments are expected. However, if NASA receives any significant adverse comments, it will withdraw this direct final rule by publishing a document in the Federal Register. A significant adverse comment is one that explains: (1) Why the direct final rule is inappropriate, including challenges to the rule's underlying premise or approach; or (2) why the direct final rule will be ineffective or unacceptable without a change. In determining whether a comment necessitates withdrawal of this direct final rule, NASA will consider whether such comment warrants a substantive response through a notice and comment process.

Background

Title 14 CFR part 1274, last amended June 3, 2016 [81 FR 35584], sets forth policy guidelines to establish uniform requirements for NASA cooperative agreements awarded to commercial firms. It is amended to remove information on NASA's Cooperative Agreements with Commercial Firms because this information is already available in other documents.

Regulatory Analysis

Executive Order 12866, Regulatory Planning and Review and Executive Order 13563, Improvement Regulation and Regulation Review

Executive Orders (E.O.) 13563 and 12866 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been designated as “not significant” under section 3(f) of E.O. 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes 14 CFR part 1274, therefore, does not have a significant economic impact on a substantial number of small entities.

Review Under the Paperwork Reduction Act

This direct final rule does not contain any information collection requirements subject to the Paperwork Reduction Act of 1995 (44 U.S.C. 3501 et seq.).

Review Under E.O. 13132

E.O. 13132, “Federalism,” 64 FR 43255 (August 4, 1999) requires regulations be reviewed for federalism effects on the institutional interest of states and local governments, and if the effects are sufficiently substantial, preparation of the Federal assessment is required to assist senior policy makers. Removal of 14 CFR part 1274 will not have any substantial direct effects on state and local governments within the meaning of the E.O. Therefore, no federalism assessment is required.

Executive Order 13771—Reducing Regulations and Controlling Regulatory Costs

This rule is not an E.O. 13771 regulatory action because this rule is not significant under E.O. 12866.

Unfunded Mandates Reform Act of 1995

This rule will not result in the expenditure by state, local, and Tribal governments, in the aggregate, or by the private sector, of $100,000,000 or more in any one year, and it will not significantly or uniquely affect small governments.

List of Subjects in 14 CFR Part 1274

Federal financial assistance.

PART 1274—[Removed and Reserved]

Accordingly, under 51 U.S.C. 20113(a), 14 CFR chapter V is amended by removing and reserving part 1274.

Nanette Smith,
Team Lead, NASA Directives and Regulations.

[FR Doc. 2020-24529 Filed 11-13-20; 8:45 am]

BILLING CODE 7510-13-P